DEPARTMENT OF ENERGY

Federal Energy Regulatory Commission

Combined Notice of Filings #1

Take notice that the Commission received the following electric corporate filings:

Docket Numbers: EC21-42-001.

Applicants: BEP SF Holdings, LLC, Horseshoe Bend Wind, LLC, North Hurlburt Wind, LLC, South Hurlburt Wind, LLC.

Description: Notice of Change in Circumstances of Heritage Power, LLC, et al.

Filed Date: 10/10/24.

Accession Number: 20241010-5240.

Comment Date: 5 p.m. ET 10/24/24.

Take notice that the Commission received the following electric rate filings:

Docket Numbers: ER15-2589-004.

Applicants: CPV Shore, LLC.

Description: Compliance filing: Informational Filing Regarding Planned Transfer to be effective N/A.

Filed Date: 10/11/24.

Accession Number: 20241011-5126.

Comment Date: 5 p.m. ET 11/1/24.

Docket Numbers: ER17-481-007.

Applicants: CPV Maryland, LLC.

Description: Compliance filing: Informational Filing Regarding Planned Transfer to be effective N/A.

Filed Date: 10/11/24.

Accession Number: 20241011-5124.

Comment Date: 5 p.m. ET 11/1/24.

Docket Numbers: ER25-85-000.

Applicants: Westside Canal 2A, LLC.

Description: Baseline eTariff Filing: Westside Canal 2A, LLC MBR Application Filing to be effective 10/12/2024.

Filed Date: 10/11/24.

Accession Number: 20241011-5050.

Comment Date: 5 p.m. ET 11/1/24.

Docket Numbers: ER25-86-000.

Applicants: Midcontinent Independent System Operator, Inc., Ameren Illinois Company.

Description: 205(d) Rate Filing: Midcontinent Independent System Operator, Inc. submits tariff filing per 35.13(a)(2)(iii: 2024-10-11_SA 4363 Ameren Illinois-Coyote Road Solar E&P (J1653) to be effective 10/12/2024.

Filed Date: 10/11/24.

Accession Number: 20241011-5102.

Comment Date: 5 p.m. ET 11/1/24.

Docket Numbers: ER25-87-000.

Applicants: California Independent System Operator Corporation.

Description: 205(d) Rate Filing: 2024-10-11 Billing, Credit and Payments Tariff Amendment to be effective 12/31/9998.

Filed Date: 10/11/24.

Accession Number: 20241011-5156.

Comment Date: 5 p.m. ET 11/1/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 11, 2024.
Debbie-Anne A. Reese,
Secretary.

[FR Doc. 2024-24173 Filed 10-17-24; 8:45 am]

BILLING CODE 6717-01-P